COMMODITY FUTURES TRADING COMMISSION

Commodity Pool Operators and Commodity Pool Industry Issues; Meeting

AGENCY: Commodity Futures Trading Commission.

ACTION: Notice of public meeting.

SUMMARY: Notice is hereby given that the Commodity Futures Trading Commission (“Commission”) will hold a public roundtable meeting at which invited participants will discuss issues concerning commodity pool operators and the commodity pool industry. An agenda and list of participants will be available on the Commission's Web site, http://www.cftc.gov.

DATES: Wednesday, April 6, 2005, from 9 a.m. to 3:15 p.m.

PLACE: Commission Headquarters, 1155 21st Street, NW., Washington, DC. Lobby Level Hearing Room.

STATUS: Open.

FOR FURTHER INFORMATION CONTACT: Jean A. Webb, 202-418-5100.

Issued in Washington, DC, this 23rd day of March, 2005.
By the Commodity Futures Trading Commission.
Jean A. Webb,
Secretary of the Commission.

[FR Doc. 05-6084 Filed 3-28-05; 8:45 am]

BILLING CODE 6351-01-M